DEPARTMENT OF ENERGY

Federal Energy Regulatory Commission

Combined Notice of Filings #1

August 18, 2009.

Take notice that the Commission received the following exempt wholesale generator filings:

Docket Numbers: EG09-85-000.

Applicants: Ashtabula Wind II, LLC.

Description: Notice of Self-Certification of Exempt Wholesale Generator Status of Ashtabula Wind II, LLC.

Filed Date: 08/17/2009.

Accession Number: 20090817-5141.

Comment Date: 5 p.m. Eastern Time on Tuesday, September 08, 2009.

Docket Numbers: EG09-86-000.

Applicants: Elk City Wind, LLC.

Description: Notice of Self-Certification of Exempt Wholesale Generator Status of Elk City Wind, LLC.

Filed Date: 08/17/2009.

Accession Number: 20090817-5181.

Comment Date: 5 p.m. Eastern Time on Tuesday, September 08, 2009.

Docket Numbers: EG09-87-000.

Applicants: FPL Energy Stateline II, Inc.

Description: Notice of Self-Certification of Exempt Wholesale Generator Status of FPL Energy Stateline II, Inc.

Filed Date: 08/17/2009.

Accession Number: 20090817-5182.

Comment Date: 5 p.m. Eastern Time on Tuesday, September 08, 2009.

Docket Numbers: EG09-88-000.

Applicants: FPL Energy Illinois Wind, LLC.

Description: Notice of Self-Certification of Exempt Wholesale Generator Status of FPL Energy Illinois Wind, LLC.

Filed Date: 08/17/2009.

Accession Number: 20090817-5183.

Comment Date: 5 p.m. Eastern Time on Tuesday, September 08, 2009.

Take notice that the Commission received the following electric rate filings:

Docket Numbers: ER09-659-002.

Applicants: Southwest Power Pool, Inc.

Description: Southwest Power Pool, Inc submits revisions to the Agreement between Southwest Power Pool, Inc and Entergy Services, Inc.

Filed Date: 08/17/2009.

Accession Number: 20090818-0035.

Comment Date: 5 p.m. Eastern Time on Tuesday, September 08, 2009.

Docket Numbers: ER09-1064-004.

Applicants: California Independent System Operator Corporation.

Description: California Independent System Operator Corp. reports that clean tariff sheets composing Attachment A to that filing inadvertently failed to incorporate all the changes reflected in the redline tariff sheets etc.

Filed Date: 08/11/2009.

Accession Number: 20090811-0050.

Comment Date: 5 p.m. Eastern Time on Tuesday, September 01, 2009.

Docket Numbers: ER09-1252-001.

Applicants: Midwest Independent Transmission System, MidAmerican Energy Company.

Description: Midwest Independent Transmission System Operator, Inc et al. submits the instant Compliance Filing.

Filed Date: 08/17/2009.

Accession Number: 20090818-0036.

Comment Date: 5 p.m. Eastern Time on Tuesday, September 08, 2009.

Docket Numbers: ER09-1253-001.

Applicants: Midwest Independent Transmission System Operator, Inc.

Description: Midwest Independent Transmission System Operator, Inc submits proposed revisions to Attachment P of the Midwest ISO's Open Access Transmission, Energy and Operating Reserve Markets Tariffs, FERC Electric Tariff, Fourth Revised Volume 1.

Filed Date: 08/17/2009.

Accession Number: 20090818-0034.

Comment Date: 5 p.m. Eastern Time on Tuesday, September 08, 2009.

Docket Numbers: ER09-1590-000.

Applicants: Xcel Energy Services Inc.

Description: Southwestern Public Service Company et al. submits the proposed cancellation of the New Century Operating Companies Open Access Transmission Tariff, Second Revised Volume 1.

Filed Date: 08/17/2009.

Accession Number: 20090818-0001.

Comment Date: 5 p.m. Eastern Time on Tuesday, September 08, 2009.

Docket Numbers: ER09-1591-000.

Applicants: Tampa Electric Company.

Description: Tampa Electric Company submits Service Schedule C for inclusion in the Contract for Interchange Service with Seminole Electric Coop, Inc.

Filed Date: 08/17/2009.

Accession Number: 20090817-4003.

Comment Date: 5 p.m. Eastern Time on Tuesday, September 08, 2009.

Docket Numbers: ER09-1592-000.

Applicants: Pacific Gas and Electric Company.

Description: Pacific Gas and Electric Co submits a Wholesale Work Performance Agreement with Shelter Cove Resort Improvement District 1.

Filed Date: 08/17/2009.

Accession Number: 20090818-0008.

Comment Date: 5 p.m. Eastern Time on Tuesday, September 08, 2009.

Docket Numbers: ER09-1593-000.

Applicants: Florida Power & Light Company.

Description: Florida Power & Light Co submits a new Service Agreement 269, Service Agreement for Long-Term Firm Point-to-Point Transmission Service with Georgia Transmission Corporation.

Filed Date: 08/17/2009.

Accession Number: 20090818-0007.

Comment Date: 5 p.m. Eastern Time on Tuesday, September 08, 2009.

Docket Numbers: ER09-1594-000.

Applicants: Tampa Electric Company.

Description: Tampa Electric Co submits Service Schedule C for inclusion in the Agreement for Interchange Service with City of Lakeland, Florida.

Filed Date: 08/17/2009.

Accession Number: 20090818-0005.

Comment Date: 5 p.m. Eastern Time on Tuesday, September 08, 2009.

Docket Numbers: ER09-1595-000.

Applicants: Tampa Electric Company.

Description: Tampa Electric Co submits Service Schedule C for inclusion in the Contract for Interchange Service with Florida Power Corp.

Filed Date: 08/17/2009.

Accession Number: 20090818-0004.

Comment Date: 5 p.m. Eastern Time on Tuesday, September 08, 2009.

Docket Numbers: ER09-1596-000.

Applicants: New York Independent System Operator, Inc.

Description: New York Independent System Operator, Inc submits proposed revisions to its Market Administration and Control Area Services Tariff.

Filed Date: 08/17/2009.

Accession Number: 20090818-0003.

Comment Date: 5 p.m. Eastern Time on Tuesday, September 08, 2009.

Docket Numbers: ER09-1597-000.

Applicants: Tampa Electric Company.

Description: Tampa Electric Co submits Service Schedule C for inclusion in the Contract for Interchange Service with Reedy Creek Improvement District.

Filed Date: 08/17/2009.

Accession Number: 20090818-0002.

Comment Date: 5 p.m. Eastern Time on Tuesday, September 08, 2009.

Docket Numbers: ER09-1598-000.

Applicants: Nevada Power Company.

Description: Nevada Power Company submits FERC Rate Schedule 52—Supplemental Power Service Agreement with City of Boulder City, NV et al.

Filed Date: 08/17/2009.

Accession Number: 20090818-0038.

Comment Date: 5 p.m. Eastern Time on Tuesday, September 08, 2009.

Take notice that the Commission received the following open access transmission tariff filings:

Docket Numbers: OA07-36-005; OA08-46-004.

Applicants: South Carolina Electric & Gas Company.

Description: Attachment K Compliance Filing of South Carolina Electric & Gas Company, et al.

Filed Date: 08/17/2009.

Accession Number: 20090817-5192.

Comment Date: 5 p.m. Eastern Time on Tuesday, September 08, 2009.

Docket Numbers: OA08-20-003.

Applicants: Tampa Electric Company.

Description: Compliance Filing of Tampa Electric Company.

Filed Date: 08/17/2009.

Accession Number: 20090817-5187.

Comment Date: 5 p.m. Eastern Time on Tuesday, September 08, 2009.

Docket Numbers: OA08-22-003.

Applicants: Florida Power Corporation.

Description: Compliance Filing of Florida Power Corporation.

Filed Date: 08/17/2009.

Accession Number: 20090817-5188.

Comment Date: 5 p.m. Eastern Time on Tuesday, September 08, 2009.

Docket Numbers: OA08-29-002.

Applicants: Florida Power & Light Company.

Description: Florida Power & Light Company Order No. 890 Attachment K Compliance Filing.

Filed Date: 08/17/2009.

Accession Number: 20090817-5190.

Comment Date: 5 p.m. Eastern Time on Tuesday, September 08, 2009.

Docket Numbers: OA08-36-004.

Applicants: Cleco Power LLC.

Description: Attachment K Compliance Filing of Cleco Power LLC.

Filed Date: 08/17/2009.

Accession Number: 20090817-5191.

Comment Date: 5 p.m. Eastern Time on Tuesday, September 08, 2009.

Docket Numbers: OA08-37-004.

Applicants: Southern Company Services, Inc.

Description: Compliance Filing of Southern Company Services, Inc. under OA08-37.

Filed Date: 08/17/2009.

Accession Number: 20090817-5204.

Comment Date: 5 p.m. Eastern Time on Tuesday, September 08, 2009.

Docket Numbers: OA08-50-005; OA08-51-004.

Applicants: Duke Energy Carolinas, LLC, Progress Energy Carolinas, Inc.

Description: Compliance Filing of Duke Energy Carolinas, LLC, et al.

Filed Date: 08/17/2009.

Accession Number: 20090817-5185.

Comment Date: 5 p.m. Eastern Time on Tuesday, September 08, 2009.

Docket Numbers: OA08-59-007.

Applicants: Entergy Services, Inc.

Description: Entergy Operating Companies submits compliance filing to amend Attachment K to Entergy's Open Access Transmission Tariff.

Filed Date: 08/17/2009.

Accession Number: 20090818-0037.

Comment Date: 5 p.m. Eastern Time on Tuesday, September 08, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E9-20354 Filed 8-24-09; 8:45 am]

BILLING CODE 6717-01-P